DEPARTMENT OF TRANSPORTATION

Federal Motor Carrier Safety Administration

[Docket No. FMCSA-2000-7316]

Notice of Request for Renewal of an Information Collection; Medical Qualifications Requirements

AGENCY: Federal Motor Carrier Safety Administration (FMCSA), DOT.

ACTION: Notice and request for comments.

SUMMARY: In accordance with the Paperwork Reduction Act of 1995 (44 U.S.C. 3501 et seq.), the FMCSA solicits comment on its intent to request the Office of Management and Budget (OMB) to approve the renewal to collect information for continuation of the requirements within 49 CFR parts 391 and 398 for (1) A medical examination form and certificate to be completed by a licensed medical examiner; (2) the submission of an application to the FMCSA for the agency to resolve conflicts of medical evaluation between medical examiners; (3) a driver qualification file for motor carriers to include the medical certificate; (4) a driver qualification file for motor carriers of migrant workers to include a doctor's certificate for every driver employed or used by them; (5) a driver qualification file to include a limb disability waiver issued to a driver; and (6) information collection requirements for granting exemptions from the vision requirements in the Federal Motor Carrier Safety Regulations (FMCSRs).

DATES: Comments must be submitted on or before July 24, 2000.

ADDRESSES: Signed, written comments should refer to the docket number that appears at the top of this document and must be submitted to the Docket Clerk, U.S. DOT Dockets, Room PL-401, 400 Seventh Street, SW., Washington, DC 20590-0001. All comments received will be available for examination at the above address between 10 a.m. and 5 p.m., e.t., Monday through Friday, except Federal holidays. Those desiring notification of receipt of comments must include a self-addressed, stamped envelope or postcard.

FOR FURTHER INFORMATION CONTACT: Mrs. Sandra Zywokarte, Office of Bus and Truck Standards & Operations, (202) 366-4001, Federal Motor Carrier Safety Administration, DOT, 400 Seventh Street, SW., Washington, DC 20590. Office hours are from 7:45 a.m. to 4:15 p.m., e.t., Monday through Friday, except Federal holidays.

SUPPLEMENTARY INFORMATION: Title: Medical Qualifications Requirements.

OMB Number: 2126-0006.

Background: Title 49 U.S.C. 31136 requires the Secretary of Transportation to prescribe regulations to ensure that the physical qualifications of commercial motor vehicle (CMV) operators are adequate to enable them to operate CMVs safely. In addition, 49 U.S.C. 31502 authorizes the Secretary to prescribe requirements for qualifications of employees of a motor carrier when needed to promote safety of operation. Information about an individual's physical condition must be collected in order for the FMCSA and motor carriers to verify that the individual meets the physical qualifications for CMV drivers in 49 CFR 391.41 and for the FMCSA to determine whether the individual is physically able to operate a CMV safely. This information collection is comprised of the 6 components listed in the summary.

Respondents: Medical examiners, medical specialists, physicians, licensed doctors of medicine or osteopathy, motor carriers, and CMV drivers.

Estimated Burden Per Record: Eight minutes for a medical examiner to complete the medical examination form; 1 minute for the medical examiner to complete the medical examiner's certificate; 1 minute to copy and file the medical examiner's certificate; 1 hour to prepare an application for resolution of medical conflict; 15 minutes to complete an application for an initial waiver of physical defects or impairments; 2 minutes to complete an application for a renewal of a waiver of physical defects or impairments; 1 minute to copy and file limb waiver applications; 66 minutes to complete an application for a vision exemption with required supporting documents; and 1 minute for a doctor of medicine or osteopathy to complete a doctor's certificate for a driver of migrant workers.

Frequency: Estimated annual responses are as follows: 2,750,000 medical examinations and medical certificates; 2 applications for resolution of conflicts of medical evaluation; 750 applications for waivers of physical defects and impairments; 200 applications for renewal of waiver of physical defects and impairments; 840 applications for vision exemption; 100 medical certificates for drivers of migrant workers.

Total Estimated Annual Burden: There are an estimated 5,500,000 CMV drivers, 2,750,000 per year who must undergo a medical examination. Approximately 2 cases per year are submitted to the FMCSA for a hearing before an Administrative Law Judge to resolve medical conflicts between medical examiners. There are approximately 1,500 limb waivers outstanding, resulting in 750 renewals. There are approximately 200 new applications for limb waivers annually. There are approximately 840 new applications for vision exemptions annually. Since the vision exemption program is new, the agency has not yet received any applications for renewal. The total estimated annual burden for this information collection is 459,321 hours.

Public Comments Invited

Interested parties are invited to send comments regarding any aspect of this information collection, including, but not limited to: (1) Whether the collection of information is necessary for the proper performance of the functions of the FMCSA, including whether the information has practical utility; (2) the accuracy of the estimated burden; (3) ways to enhance the quality, utility, and clarity of the collected information; and (4) ways to minimize the collection burden without reducing the quality of the collected information.

Electronic Availability

An electronic copy of this document may be downloaded from the Internet, from the Office of the Federal Register web site: http://www.nara.gov/fedreg, or the U.S. Government Printing Office web site: http://www.access.gpo.gov/nara. Internet users can access all comments received by the U.S. DOT Dockets, Room PL-401, by using the universal resource locator (URL): http://dms.dot.gov. This service is available 24 hours each day, 365 days each year. Please follow the instructions online for more information and help.

Authority: 49 U.S.C. 315 and 49 CFR 1.73.

Issued on: May 14, 2000.
Julie Anna Cirillo,
Acting Deputy Administrator, Federal Motor Carrier Safety Administration.

[FR Doc. 00-12874 Filed 5-22-00; 8:45 am]

BILLING CODE 4910-22-P